DEPARTMENT OF DEFENSE

GENERAL SERVICES ADMINISTRATION

NATIONAL AERONAUTICS AND SPACE ADMINISTRATION

[OMB Control No. 9000-0200; Docket No. 2020-0053; Sequence No. 19]

Submission for OMB Review; Protecting Life in Global Health Assistance

Correction

In notice document 2020-28152 appearing on pages 83086-83087 in the issue of Monday, December 21, 2020, make the following correction:

On page 83087, in the first column, in the DATES section, change “January 20, 2021” to read “January 21, 2021.”

[FR Doc. C1-2020-28152 Filed 1-12-21; 8:45 am]

BILLING CODE 1301-00-D